DEPARTMENT OF AGRICULTURE

Forest Service

Shoshone National Forest, Wyoming, Notice of New Fee Site; Federal Lands Recreation Enhancement Act (REA)

AGENCY: Forest Service, USDA.

ACTION: Notice of new fee sites.

SUMMARY: The Shoshone National Forest will begin renting overnight to the public, four Forest Service administrative cabins and a fire lookout. The Clay Butte Fire Lookout is on the Clarks Fork Ranger District and the cabins are located at the Sunlight Ranger Station on the Clarks Fork Ranger District, the East Fork Guard Station and Double Cabin Guard Station on the Wind River Ranger District of the Shoshone National Forest. The fees charged will vary from $30 to $150 per night, depending on the type of structure, occupancy capacity, and amenities available. Overnight rental of cabins on adjacent national forests has shown that the public appreciates and enjoys the availability of historic rental cabins. Funds from the rentals will be used for the continued operation and maintenance of these structures.

DATES: The cabins will be available for rent beginning August 17, 2007.

ADDRESSES: Forest Supervisor, Shoshone National Forest, 808 Meadow Lane Avenue, Cody, WY 82414.

FOR FURTHER INFORMATION CONTACT: Julie Lyons, Natural Resource Specialist, 307-527-6921.

SUPPLEMENTARY INFORMATION: A comparison of other cabin rental programs and local commercial operations indicate the $30 to $150 per night fee is both reasonable and acceptable for these types of facilities and recreational experience.

Those wanting to rent these cabins will need to do so through the National Recreation Reservation Service, at http://www.reserveuse.com or by calling 1-877-444-6777. The National Recreation Reservation Service charges a $9 fee for reservations.

Dated: February 8, 2007.
Mark Giacoletto,
Shoshone National Forest, Acting Forest Supervisor.

[FR Doc. 07-673 Filed 2-13-07; 8:45 am]

BILLING CODE 3410-11-M